DEPARTMENT OF ENERGY

Federal Energy Regulatory Commission

Notice of Commission Staff Attendance

The Federal Energy Regulatory Commission (Commission) hereby gives notice that members of the Commission's staff may attend the following meetings related to the transmission planning activities of the New York Independent System Operator, Inc.

The New York Independent System Operator, Inc. Business Issues Committee Meeting

February 10, 2016, 10:00 a.m.-4:00 p.m. (EST)

The above-referenced meeting will be via Web conference and teleconference.

The above-referenced meeting is open to stakeholders.

Further information may be found at: http://www.nyiso.com/public/markets_operations/committees/meeting_materials/index.jsp?com=bic.

The New York Independent System Operator, Inc. Operating Committee Meeting

February 12, 2016, 10:00 a.m.-4:00 p.m. (EST)

The above-referenced meeting will be via Web conference and teleconference.

The above-referenced meeting is open to stakeholders.

Further information may be found at: http://www.nyiso.com/public/markets_operations/committees/meeting_materials/index.jsp?com=oc.

The New York Independent System Operator, Inc. Management Committee Meeting

February 24, 2016, 10:00 a.m.-4:00 p.m. (EST)

The above-referenced meeting will be via Web conference and teleconference.

The above-referenced meeting is open to stakeholders.

Further information may be found at: http://www.nyiso.com/public/markets_operations/committees/meeting_materials/index.jsp?com=mc.

The discussions at the meeting described above may address matters at issue in the following proceedings:

New York Independent System Operator, Inc., Docket No. ER13-102.

New York Independent System Operator, Inc., Docket No. ER15-2059.

New York Independent System Operator, Inc., Docket No. ER16-120.

New York Transco, LLC, Docket No. ER15-572.

For more information, contact James Eason, Office of Energy Market Regulation, Federal Energy Regulatory Commission at (202) 502-8622 or James.Eason@ferc.gov.

Dated: January 29, 2016.
Nathaniel J. Davis, Sr.,
Deputy Secretary.

[FR Doc. 2016-02077 Filed 2-3-16; 8:45 am]

BILLING CODE 6717-01-P